OVERSEAS PRIVATE INVESTMENT CORPORATION

Submission for OMB Review; Comments Request

AGENCY: Overseas Private Investment Corporation (OPIC).

ACTION: Notice and request for comments.

SUMMARY: Under the provisions of the Paperwork Reduction Act, agencies are required to publish a Notice in the Federal Register notifying the public that the agency is modifying an existing information collection for OMB review and approval and requests public review and comment on the submission. OPIC received no comments in response to the sixty (60) day notice. The purpose of this notice is to allow an additional thirty (30) days for public comments to be submitted. Comments are being solicited on the need for the information; the accuracy of OPIC's burden estimate; the quality, practical utility, and clarity of the information to be collected; and ways to minimize reporting the burden, including automated collected techniques and uses of other forms of technology.

DATES: Comments must be received within thirty (30) calendar days of publication of this Notice.

ADDRESSES: Mail all comments and requests for copies of the subject form to OPIC's Agency Submitting Officer: James Bobbitt, Overseas Private Investment Corporation, 1100 New York Avenue NW., Washington, DC 20527. See SUPPLEMENTARY INFORMATION for other information about filing.

FOR FURTHER INFORMATION CONTACT: OPIC Agency Submitting Officer: James Bobbitt, (202) 336-8558.

SUPPLEMENTARY INFORMATION: OPIC received no comments in response to the sixty (60) day notice published in Federal Register volume 82 page 44860 on September 26, 2017. All mailed comments and requests for copies of the subject form should include form number OPIC-254 on both the envelope and in the subject line of the letter. Electronic comments and requests for copies of the subject form may be sent to James.Bobbitt@opic.gov, subject line OPIC-254.

Summary Form Under Review

Type of Request: Revision of a currently approved information collection.

Title: Personal Financial Statement.

Form Number: OPIC-254.

Frequency of Use: Up front—one per individual investor/guarantor per project.

Type of Respondents: Individuals.

Standard Industrial Classification Codes: N/A.

Description of Affected Public: U.S. and foreign citizens investing in projects overseas.

Reporting Hours: 75 hours (1 hour per response).

Number of Responses: 75 per year.

Federal Cost: $4,026.

Authority for Information Collection: Sections 231 and 234(d) of the Foreign Assistance Act of 1961, as amended.

Abstract (Needs and Uses): The personal financial statement is supporting documentation to the OPIC application for financing (OPIC-115). The information provided is used by OPIC to determine if individuals who are providing equity investment in or credit support to a project have sufficient financial wherewithal to meet their expected obligations under the proposed terms of the OPIC financing.

Dated: November 27, 2017.
Nichole Skoyles,
Administrative Counsel, Department of Legal Affairs.

[FR Doc. 2017-25858 Filed 11-30-17; 8:45 am]

BILLING CODE 3210-01-P